DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Restoration Center Performance Progress Report.

OMB Control Number: 0648-0472.

Form Number(s): NA.

Type of Request: Regular submission (extension of a current information collection).

Number of Respondents: 250.

Average Hours per Response: Semiannual reports, 7 hours, six minutes; annual reports, 52 minutes.

Burden Hours: 4,145.

Needs and Uses: This request is for a regular submission (extension of a currently approved information collection).

NOAA funds habitat restoration projects including grass-roots, community-based habitat restoration; debris prevention and removal; removal of barriers to migrating fish; and large-scale, targeted restoration through individual projects and restoration partnerships. Awards are made as grants or cooperative agreements under the authority of the Magnuson-Stevens Fishery Conservation and Management Act and the Fish and Wildlife Coordination Act, 16 U.S.C. 661, as amended by the Reorganization Plan No. 4 of 1970.

NOAA requires specific information on habitat restoration projects that are funded, as part of routine progress reporting. Recipients of NOAA funds submit information such as project location, restoration techniques used, species benefited, acres restored, stream miles opened to access for diadromous fish, volunteer participation, and other parameters.

The required information enables NOAA to track, evaluate and report on coastal and marine habitat restoration and demonstrate accountability for federal funds. This information is used to populate a database of NOAA-funded habitat restoration, debris prevention and removal, and barrier removal projects. The database, with its robust querying capabilities, is instrumental to provide accurate and timely responses to NOAA, Department of Commerce, Congressional and Constituent inquiries. It also facilitates reporting by NOAA on the Government Performance and Results Act “acres restored” performance measure. Grant recipients are required by the NOAA Grants Management Division to submit periodic performance reports and a final report for each award; this collection stipulates the information to be provided in these reports.

Affected Public: State, local and tribal government, not-for-profit institutions, business or other for-profit organizations.

Frequency: Annually and semiannually.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: August 21, 2012.
Gwellnar Banks,
Management Analyst, Office of the Chief Information Officer.

[FR Doc. 2012-20862 Filed 8-23-12; 8:45 am]

BILLING CODE 3510-22-P